DEPARTMENT OF THE INTERIOR

Bureau of Land Management

[WY-010-1430-EU; WYW-150992]

Proposed Direct Sale of Public Land, Wyoming

AGENCY: Bureau of Land Management, Interior.

ACTION: Notice of realty action.

SUMMARY: Public Law 106-485 (Nov. 9, 2000; 114 Stat. 2199) directs the Secretary of the Interior, acting through the Bureau of Land Management, to convey all right, title and interest (excluding mineral interest) in a parcel of public land in Big Horn County and Washakie County, Wyoming. The parcel of land to be conveyed comprises some portion or portions of approximately 16,077.59 acres. Conveyance is to be made to the Westside Irrigation District, at appraised value. The sale will be processed according to regulations at 43 CFR 2711.1-2.

ADDRESSES: Address all comments concerning this Notice to Field Manager, Bureau of Land Management, Worland Field Office, P.O. Box 119, Worland, WY 82401.

FOR FURTHER INFORMATION CONTACT: Andrew Tkach, Interim Westside Project Manager, at the above address or telephone (307) 347-5100.

SUPPLEMENTARY INFORMATION: The following-described public land in Washakie and Big Horn Counties, Wyoming, are under consideration for conveyance by direct sale under Public Law 106-485 (Nov. 9, 2000; 114 Stat. 2199):

Sixth Principal Meridian, Wyoming

T. 48 N., R. 92 W.

Sec. 18, lots 2, 4;

Sec. 19, lot 1

T. 49 N., R. 92 W.

Sec. 18, lots 6-9;

Sec. 19, lots 5-13;

Sec. 30, lots 5-18;

Sec. 31, lots 5-15.

T. 48 N., R. 92½ W.

Sec. 1, lots 1-6, SW¼NE¼, W½ SE¼;

Sec. 12, lots 1-4, W½E½;

Sec. 13, lots 1-4, W½NE¼, SE¼ NE¼, SE¼;

Sec. 24, lots 1-4, E½;

Sec. 25, lots 1-4, W½ E½.

T. 48 N., R. 93 W.

Sec. 1, lots 5-16, S½;

Sec. 2, lots 5-16, S½;

Sec. 3, lots 5-16, S½;

Sec. 10, Entire Section;

Sec. 11, Entire Section:

Sec. 12, Entire Section;

Sec. 13, Entire Section;

Sec. 14, Entire Section;

Sec. 15, Entire Section;

Sec. 22, N½, SE¼;

Sec. 23, Entire Section;

Sec. 24, Entire Section;

Sec. 25, lots 1 and 2, N½ SW¼, N½ SE¼;

Sec. 26, N½SE¼;

Sec. 36, lots 1 and 2, N½NW¼.

T. 49 N., R. 93 W.

Sec. 1, SW¼ SW¼;

Sec. 2, lot 3, S½ NW¼, S½;

Sec. 11, N½N½, SE¼;

Sec. 12, W½NW¼, SE¼NW¼, SW¼, W½SE¼, SE¼SE¼;

Sec. 13, Entire Section;

Sec. 14, E½;

Sec. 23, E½;

Sec. 24, Entire Section;

Sec. 25, N½;

Sec. 26, NE¼.

The area described contains 16,077.59 acres, more or less, in Washakie and Big Horn Counties, Wyoming.

The law authorizing the transfer of the land specifies that acreage may be added to or subtracted from the land to be conveyed to satisfy any mitigation requirements resulting from the NEPA analysis. The law provides that proceeds from the sale are to be used “for acquisition of land and interests in land in the Worland District of the Bureau of Land Management that will benefit public recreation, public access, fish and wildlife habitat, or cultural resources.”

On publication in the Federal Register the above-described land will be segregated from appropriation under the public land laws, including the mining laws. Until completion of the sale, the BLM is no longer accepting land use applications affecting the identified public land, except applications for the amendment of previously-filed right-of-way applications or existing authorizations to increase the term of the grants in accordance with 43 CFR 2807.15. The segregative effect will terminate upon issuance of a patent or publication in the Federal Register of a termination of the segregation, or 2 years after the date of publication in the Federal Register unless extended by the BLM State Director in accordance with 43 CFR 2711.1-2(d) prior to the termination date.

Public Comments: Interested parties and the general public may submit in writing any comments concerning the land being conveyed by direct sale, including notification of any encumbrances or other claims relating to the identified land, to Field Manager, BLM Worland Field Office, at the above address. Before including your address, phone number, e-mail address, or other personal identifying information in your comment, you should be aware that your entire comment—including your personal identifying information—may be made public at any time. While you can ask us in your comment to withhold your personal identifying information from public review, we cannot guarantee that we will be able to do so.

(Authority: Public Law 106-485 (Nov. 9, 2000; 114 Stat. 2199))

Dated: December 19, 2007.
Bill Hill,
Field Manger.

[FR Doc. E7-25539 Filed 12-31-07; 8:45 am]

BILLING CODE 4310-22-P